INTERNATIONAL TRADE COMMISSION

[Inv. No. 337-TA-501]

In the Matter of Certain Encapsulated Integrated Circuit Devices and Products Containing Same; Notice of Commission Determination To Remand Investigation to the Administrative Law Judge; Extension of Target Date for Completion of the Investigation

AGENCY: U.S. International Trade Commission.

ACTION: Notice.

SUMMARY: Notice is hereby given that the U.S. International Trade Commission has determined to remand the above-referenced investigation to the presiding administrative law judge (ALJ) for further proceedings and findings in light of claim construction determinations made by the Commission and an expected ruling by the U.S. Court of Appeals for the District of Columbia (D.C. Court of Appeals) in U.S. International Trade Commission v. ASAT Inc., Appeal No. 05-5009. The Commission also has determined to extend the target date in this investigation by seven (7) months and twenty-one (21) days, i.e., until November 21, 2005.

FOR FURTHER INFORMATION CONTACT: Michael Liberman, Esq., Office of the General Counsel, U.S. International Trade Commission, 500 E Street, SW., Washington, DC 20436, telephone 202-205-3115. Copies of the public version of the IDs and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On December 19, 2003, the Commission instituted an investigation under section 337 of the Tariff Act of 1930, 19 U.S.C. 1337, based on a complaint filed by Amkor Technology, Inc. (“Amkor”) alleging a violation of section 337 in the importation, sale for importation, and sale within the United States after importation of certain encapsulated integrated circuit devices and products containing same in connection with claims 1-4, 7, 17, 18 and 20-23 of U.S. Patent No. 6,433,277 (“the ‘277 patent”); claims 1-4, 7 and 8 of U.S. Patent No. 6,630,728 (“the ‘728 patent”); and claims 1, 2, 13 and 14 of U.S. Patent No. 6,455,356 (“the ‘356 patent”). 68 FR 70836 (December 19, 2003). The complainant named Carsem (M) Sdn Bhd; Carsem Semiconductor Sdn Bhd; and Carsem, Inc. (collectively, “Carsem”) as respondents.

The evidentiary hearing in this investigation was held from July 6 through July 30, 2004, and August 9 through August 11, 2004. On November 18, 2004, the presiding ALJ issued a final ID finding no violation of section 337. All parties to the investigation, including the Commission investigative attorney filed timely petitions for review of various portions of the final ID. Respondents designated their petition contingent upon the granting of any other petition for review or upon the Commission’s reviewing the ALJ's ID on its own motion pursuant to 19 CFR 210.44. All parties filed timely responses to the petitions for review.

On February 1, 2005, the Commission determined to review the final ID in its entirety. 70 FR 6454 (February 7, 2005). The Commission requested briefing, based on the evidentiary record, on the issue of claim interpretation only. Id. The Commission also extended the target date for completion of this investigation until March 31, 2005. Id. All the parties to this investigation filed timely written submissions and timely reply submissions regarding the issues under review.

On February 15, 2005, respondent Carsem filed a motion and memorandum to strike complainant's initial written submission regarding the issues under review. On February 25, 2005, both complainant Amkor and the IA filed responsive pleadings in opposition to Carsem's motion.

Having reviewed the record in this investigation, including the ID and the written submissions of the parties, the Commission has determined to make various claim construction determinations with regard to the patent claims under review, and to remand the investigation to the ALJ for additional proceedings and findings in light of those claim constructions. The Commission has also directed the ALJ to reopen the evidentiary record to receive, and make findings based on, evidence that may become available after the D.C. Court of Appeals rules in U.S. International Trade Commission v. ASAT, Inc., Appeal No. 05-5009. In order to allow sufficient time to complete the remand, the Commission has extended the target date for completion of the investigation by seven (7) months and twenty-one (21) days, i.e., until November 21, 2005. The Commission also determined to deny respondent Carsem's motion to strike.

The authority for the Commission's determination is contained in section 337 of the Tariff Act of 1930, as amended (19 U.S.C. 1337), and in sections 210.45 and 210.51 of the Commission's Rules of Practice and Procedure (19 CFR 210.45 and 210.51).

Issued: March 31, 2005.
By order of the Commission.
Marilyn R. Abbott,
Secretary to the Commission.

[FR Doc. 05-6736 Filed 4-5-05; 8:45 am]

BILLING CODE 7020-02-P